FEDERAL COMMUNICATIONS COMMISSION

47 CFR Part 1

[WT Docket No. 08-7; Report No. 3111]

Petition for Reconsideration of a Declaratory Ruling on Regulatory Status of Wireless Messaging Service

AGENCY: Federal Communications Commission.

ACTION: Petition for Reconsideration.

SUMMARY: A Petition for Reconsideration (Petition) has been filed regarding the Commission's declaratory ruling by John Bergmayer on behalf of Public Knowledge.

DATES: Oppositions to the Petition must be filed on or before March 25, 2019. Replies to an opposition must be filed on or before April 2, 2019.

ADDRESSES: Federal Communications Commission, 445 12th Street SW, Washington, DC 20554.

FOR FURTHER INFORMATION CONTACT: Elizabeth McIntyre, Deputy Chief, Competition and Infrastructure Policy Division, Wireless Telecommunications Bureau, at (202) 418-0668, email elizabeth.mcintyre@fcc.gov.

SUPPLEMENTARY INFORMATION: This is a summary of the Commission's document, Report No. 3111, released February 5, 2019. The full text of the Petition is available for viewing and copying at the FCC Reference Information Center, 445 12th Street SW, Room CY-A257, Washington, DC 20554. It also may be accessed online via the Commission's Electronic Comment Filing System at: http://apps.fcc.gov/ecfs/. The Commission will not send a Congressional Review Act (CRA) submission to Congress or the Government Accountability Office pursuant to the CRA, 5.U.S.C. 801(a)(1)(A) because no rules are being adopted by the Commission.

Subject: Petition for Declaratory Ruling on Regulatory Status of Wireless Messaging Service, WT Docket No. 08-7, FCC 18-178, published at 84 FR 5008, February 20, 2019. This document is being published pursuant to 47 CFR 1.429(e).

Number of Petitions Filed: 1.

Federal Communications Commission.
Cecilia Sigmund,
Federal Register Liaison Officer.

[FR Doc. 2019-04256 Filed 3-7-19; 8:45 am]

BILLING CODE 6712-01-P